DEPARTMENT OF COMMERCE

International Trade Administration

[A-588-703]

Revocation of Antidumping Duty Order: Certain Internal-Combustion Industrial Forklift Trucks from Japan

AGENCY: Import Administration, International Trade Administration, Department of Commerce.

SUMMARY: Pursuant to section 751(c) of the Tariff Act of 1930, as amended (the Act), the International Trade Commission (ITC), in its sunset review, determined that revocation of the antidumping duty (AD) order on certain internal combustion forklift trucks (forklifts) from Japan would not be likely to lead to continuation or recurrence of material injury to an industry in the United States within a reasonably foreseeable time. See Internal Combustion Industrial Forklift Trucks from Japan, 71 FR 5070 (January, 31 2006) (ITC Determination). Therefore, pursuant to section 751(d)(2) of the Act and 19 CFR 351.222(i)(1)(iii), the Department is revoking the AD order on forklifts from Japan.

EFFECTIVE DATE: June 2, 2005.

FOR FURTHER INFORMATION CONTACT: David Layton or David Goldberger, AD/CVD Operations, Office 1, Import Administration, International Trade Administration, U.S. Department of Commerce, 14th Street & Constitution Avenue, NW, Washington, DC 20230; telephone: (202) 482-0371 and (202) 482-0182, respectively.

SUPPLEMENTARY INFORMATION:

Background

On June 7, 1988, the Department published its AD order and final amended determination on forklifts from Japan. See Antidumping Duty Order and Amendment to Final Determination of Sales at Less Than Fair Value; Certain Internal-Combustion, Industrial Forklift Trucks From Japan, 53 FR 20882 (June 7, 1988). In the amended final determination the Department found margins ranging from 13.65 - 56.81 percent for the selected respondents and 39.45 percent for “all other” manufacturers/producers/exporters of forklifts from Japan. After an affirmative determination by the ITC in the first sunset review of forklifts from Japan, on June 2, 2000, the Department published the notice of continuation of the order. See Continuation of Antidumping Duty Orders and Countervailing Duty Order: Internal-Combustion, Industrial Forklift Trucks From Japan, 65 FR 35323.

On March 1, 2005, the Department initiated, and the ITC instituted, sunset reviews of the AD order on forklifts from Japan. See Initiation of Five-year (Sunset) Reviews, 70 FR 9919. As a result of its review, the Department found that revocation of the AD order would likely lead to continuation or recurrence of dumping, and notified the ITC of the dumping rate likely to prevail if the AD order were revoked. See Internal-Combustion Forklift Trucks from Japan; Final Results of the Expedited Sunset Review of the Antidumping Duty Order, 70 FR 58373 (October 6, 2005).

On January 26, 2006, the ITC determined, pursuant to section 752 of the Act, that revocation of the AD order on forklifts from Japan would not be likely to lead to continuation or recurrence of material injury to an industry in the United States within a reasonably foreseeable time. See ITC Determination and USITC Publication 3831 (January 2006), entitled Internal-Combustion Forklift Trucks from Japan. Inv. No. 731-TA-377 (Second Review).

Scope of the Order

The products covered by this order are certain internal-combustion, industrial forklift trucks, with lifting capacity of 2,000 to 15,000 lbs. Imports of these products were classified under item numbers 692.4025, 692.4030, and 692.4070 of the Tariff Schedules of the United States Annotated (TSUSA) and are currently classifiable under Harmonized Tariff Schedule of the United States (HTSUS) item numbers 8427.20.00, 8427.90.00, and 8431.20.00. Although the HTSUS item numbers are provided for convenience and customs purposes, the written description remains dispositive.

The products covered by this order are further described as follows: Assembled, not assembled, and less than complete, finished and not finished, operator-riding forklift trucks powered by gasoline, propane, or diesel fuel internal-combustion engines of off-the-highway types used in factories, warehouses, or transportation terminals for short-distance transport, towing, or handling of articles. Less than complete forklift trucks are defined as imports which include a frame by itself or a frame assembled with one or more component parts. Component parts of the subject forklift trucks which are not assembled with a frame are not covered by this order.

Products not covered by this order are genuinely used forklifts. For the purposes of this antidumping duty order, we consider any forklift to be used if, at the time of entry into the United States, the importer can demonstrate to the satisfaction of the U.S. Customs and Border Protection (CBP) that the forklift was manufactured in a calendar year at least three years prior to the year of entry into the United States. The importer must show documentation from industrial publications that reconcile the serial number and year of manufacture of the forklift. If the calendar year of manufacture is at least three years prior to its year of entry into the United States, it will not be subject to the suspension of liquidation or any assessment of antidumping duties. For example, if a forklift is entered or withdrawn from warehouse, for consumption in June 1988 and if the importer demonstrates through industrial publications that the forklift was manufactured in or before calendar year 1985, that forklift will not be covered by this order.

Determination

As a result of the determination by the ITC that revocation of this AD order is not likely to lead to continuation or recurrence of material injury to an industry in the United States, the Department, pursuant to section 751(c) of the Act, is revoking the AD order on forklifts from Japan. Pursuant to section 751(c)(6)(A)(iii) of the Act and 19 CFR 351.222(i)(2)(ii), the effective date of revocation is June 2, 2005 (i.e., the fifth anniversary of the date of publication in the Federal Register of the notice of continuation of the AD order). The Department will notify CBP to discontinue suspension of liquidation and collection of cash deposits on entries of the subject merchandise entered or withdrawn from warehouse on or after June 2, 2005, the effective date of revocation of the AD order. The Department will complete any pending administrative reviews of this order and will conduct administrative reviews of subject merchandise entered prior to the effective date of revocation in response to appropriately filed requests for review.

This five-year (sunset) review and notice are in accordance with section 751(d)(2) and published pursuant to section 777(i)(1) of the Act.

Dated: February 3, 2006.
David M. Spooner,
Assistant Secretary for Import Administration.

[FR Doc. E6-1881 Filed 2-9-06; 8:45 am]

BILLING CODE 3510-DS-S